SECURITIES AND EXCHANGE COMMISSION

[Release No. 34-53522; File No. SR-ISE-2006-09]

Self-Regulatory Organizations; International Securities Exchange, Inc.; Notice of Filing and Immediate Effectiveness of Proposed Rule Change and Amendment No. 1 Thereto Relating to Session/API Fees

Correction

In notice document E6-4274, beginning on page 14975 in the issue of March 24, 2006, make the following correction:

On page 14976, in the third column, in the last paragraph, in the last line, “April 17, 2006 ” should read “April 14, 2006”.

[FR Doc. Z6-4274 Filed 4-6-06; 8:45 am]

BILLING CODE 1505-01-D